DEPARTMENT OF ENERGY

Federal Energy Regulatory Commission

[Docket No. RP00-506-001]

Northwest Pipeline Corp.; Notice of Correction Filing

October 5, 2000.

Take notice that on October 2, 2000, Northwest Pipeline Corporation (Northwest) tendered for filing and acceptance the following tariff sheets as part of its FERC Gas Tariff, Third Revised Volume No. 1, to be effective as indicated:

To Be Effective March 27, 2000

Substitute Fourteenth Revised Sheet No. 5-A

To Be Effective July 1, 2000

Fifteenth Revised Sheet No. 5-A

Northwest states that the purpose of this filing is to correct errors on Fourteenth Revised Sheet No. 5-A. Fourteenth Revised Sheet No. 5-A was accepted by the Commission on September 22, 2000 in Docket No. RP00-506-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26129 Filed 10-11-00; 8:45 am]

BILLING CODE 6717-01-M